DEPARTMENT OF HEALTH AND HUMAN SERVICES

Centers for Disease Control and Prevention

Board of Scientific Counselors, National Center for Health Statistics (BSC, NCHS)

Notice of Cancellation: This notice was published in the Federal Register on December 23, 2015, Volume 80, Number 246, pages 79899-79900. The meeting previously scheduled to convene on January 21-22, 2016, has been cancelled.

Contact Person for More Information: Virginia S. Cain, Ph.D., Director of Extramural Research, NCHS/CDC, 3311 Toledo Road, Room 7208, Hyattsville, Maryland 20782, Telephone (301) 458-4395, Fax (301) 458-4020, Email: vcain@cdc.gov.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2016-01442 Filed 1-25-16; 8:45 am]

BILLING CODE 4163-18-P